DEPARTMENT OF LABOR

Employment and Training Administration

[NAFTA-03741]

McMoran Exploration Company Culberson Mine, Pecos, Texas; Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 U.S.C. 2273), an investigation was initiated on February 15, 2000 in response to a petition filed on behalf of workers and former workers at the Culberson Mine of McMoRan Exploration Company, located in Pecos, Texas (NAFTA-03741).

The petitioner has requested that the petition be withdrawn. Consequently, further investigation in this case would serve no purpose, and the investigation has been terminated.

Signed at Washington, DC, this 28th day of February 2000.
Grant D. Beale,
Program Manager, Division of Trade Adjustment Assistance.

[FR Doc. 00-6377 Filed 3-14-00; 8:45 am]

BILLING CODE 4510-30-M